DEPARTMENT OF HEALTH AND HUMAN SERVICES

Centers for Disease Control and Prevention

[30DAY-15-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project

A Survey of Pediatricians' Attitudes and Practices about Promoting Communication between Parents and Their Children about Sexuality and Sexual Risk—New—National Center for HIV, STD, and TB Prevention (NCHSTP), Centers for Disease Control and Prevention (CDC). CDC proposes to assess pediatricians' attitudes, beliefs, and practices regarding promotion of parent-child communication about sexuality and sexual risk, and barriers to offering sexual health counseling to parents. The survey will assess which services are currently offered by physicians (e.g., discussions, pamphlets, videos, referrals to educational programs); when and to whom physicians offer services; the barriers that prevent physicians from offering services; and the types of services pediatricians believe are feasible to offer. Results of this survey will be used to develop effective programs to help pediatricians facilitate communication between parents and children about sexuality and STD/HIV prevention. Increasing parent-adolescent communication about sexuality and STD/HIV is important because many adolescents are having unprotected sex at an early age, and although parent-adolescent communication has been found to be associated with lower sexual risk behavior among adolescents, many parents are not talking to their adolescents. Thus, strategies are needed to inform parents about the benefits of communication as a way to enhance their child's sexual health. Consistent with recommendations from the American Medical Association and the American Academy of Pediatrics, physicians can play an important role in educating parents about ways to promote their child's sexual health. The total annual burden for this project is 300 hours.

Respondents | Number of respondents | Number of responses | Average hour burden per response
Pediatricians | 900 | 1 | 20/60

Dated: January 16, 2001.
Nancy E. Cheal,
Acting Associate Director for Policy, Planning and Evaluation, Centers for Disease Control and Prevention (CDC).

[FR Doc. 01-1763 Filed 1-19-01; 8:45 am]

BILLING CODE 4163-18-P